DEPARTMENT OF THE INTERIOR

National Park Service

Notice of Inventory Completion: Rochester Museum & Science Center, Rochester, NY

AGENCY: National Park Service, Interior.

ACTION: Notice.

Notice is here given in accordance with the Native American Graves Protection and Repatriation Act (NAGPRA), 25 U.S.C. 3003, of the completion of an inventory of human remains in the possession of the Rochester Museum & Science Center, Rochester, NY. The human remains were removed from Point Spencer, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Rochester Museum & Science Center professional staff in consultation with representatives of the Bering Straits Foundation, a non-profit organization representing the interests of the Bering Straits Native Corporation, Native Brevig Mission Native Corporation, Village of Brevig Mission, Native Village of Teller, Teller Native Corporation, Native Village of Wales, and Wales Native Corporation.

At an unknown date, human remains representing a minimum of one individual were recovered from a grave at Point Spencer, near Cape Prince of Wales, AK, by Lt. Phillip J. Launer. The human remains were donated to the Rochester Museum & Science Center in 1945. No known individual was identified. Funerary objects documented as being collected are missing from the museum collection.

Physical examination of the human remains indicates they are of Native American ancestry. Point Spencer is located at the end of a sand spit on the south coast of the Seward Peninsula in Western Alaska. Archeological evidence indicates a relatively stable population residing on the Seward Peninsula continuously for over 1,000 years. The 1893 U.S. Census listed a collective village on Point Spencer with a population of 485, of which 236 were Alaska Natives and 249 were foreign. The Alaska Native descendants of Point Spencer are members at the Native Village of Brevig Mission, Native Village of Teller, and Native Village of Wales.

Officials of the Rochester Museum & Science Center have determined that, pursuant to 25 U.S.C. 3001 (9-10), the human remains described above represent the physical remains of one individual of Native American ancestry. Officials of the Rochester Museum & Science Center also have determined that, pursuant to 25 U.S.C. 3001 (3)(A), there is a relationship of shared group identity that can be reasonably traced between the Native American human remains and the Bering Straits Native Corporation, Native Brevig Mission Native Corporation, Village of Brevig Mission, Native Village of Teller, Teller Native Corporation, Native Village of Wales, and Wales Native Corporation.

Representatives of any other Indian tribe that believes itself to be culturally affiliated with the human remains should contact Gian Carlo Cervone, Rochester Museum & Science Center, 657 East Avenue, Rocherster, NY 14607-2177, telephone (585) 271-4552, ext. 310, before July 17, 2008. Repatriation of the human remains to the Bering Straits Foundation on behalf of the Bering Straits Native Corporation, Native Brevig Mission Native Corporation, Village of Brevig Mission, Native Village of Teller, Teller Native Corporation, Native Village of Wales, and Wales Native Corporation may proceed after that date if no additional claimants come forward.

The Rochester Museum & Science Center is responsible for notifying the Bering Straits Foundation, Bering Straits Native Corporation, Native Brevig Mission Native Corporation, Village of Brevig Mission, Native Village of Teller, Teller Native Corporation, Native Village of Wales, and Wales Native Corporation that this notice has been published.

Dated: May 12, 2008.
Sherry Hutt,
Manager, National NAGPRA Program.

[FR Doc. E8-13595 Filed 6-16-08; 8:45 am]

BILLING CODE 4312-50-S